DEPARTMENT OF DEFENSE

Department of the Navy

Notice of Intent To Prepare a Supplemental Environmental Impact Statement/Supplemental Overseas Environmental Impact Statement for Employment of Surveillance Towed Array Sensor System Low Frequency Active Sonar

AGENCY: Department of the Navy, DoD.

ACTION: Notice.

SUMMARY: Pursuant to the National Environmental Policy Act (NEPA) and Executive Order 12114, the Department of the Navy (DoN) is announcing its intent to prepare a Supplemental Environmental Impact Statement (SEIS)/Supplemental Overseas Environmental Impact Statement (SOEIS) to analyze the potential impact of Surveillance Towed Array Sensor System Low Frequency Active (SURTASS LFA) sonar on the five bottlenose dolphin stocks comprising the Hawaiian Islands Stock Complex (Kauai/Niiahu, Oahu, 4-island, Hawaii Island, and Hawaii Pelagic).

DATES: The Draft SEIS/SOEIS is expected to be available in early September 2014, at which time the public comment period will be open for 45 days. The Final SEIS/SOEIS is expected to be completed by early February 2015.

FOR FURTHER INFORMATION CONTACT: Chief of Naval Operations, Code N2N6F24, c/o SURTASS LFA Sonar SEIS/SOEIS Program Manager, 4100 Fairfax Drive, Suite 730, Arlington, Virginia 22203; or email: eisteam@surtass-lfa-eis.com.

SUPPLEMENTARY INFORMATION: Although the most recent Final SEIS/SOEIS for SURTASS LFA Sonar was completed in June 2012, during subsequent litigation (Natural Resources Defense Council, Inc. et al. v. Pritzker et al., No. 12-cv-05380-EDL [E.D. Cal. October 18, 2012]), the court found that the SEIS/SOEIS was deficient in one limited respect in that the DoN failed to use the best available data from the 2010 Pacific Stock Assessment Report to analyze the potential impact of SURTASS LFA sonar on the individual stocks within the Hawaiian Islands Stock Complex of common bottlenose dolphins and allow public comment on that analysis. The court upheld the current SEIS/SOEIS in all other respects. The SEIS/SOEIS proposed in this notice will be prepared for the limited purpose of addressing the single deficiency identified by the court.

The National Marine Fisheries Service will be a cooperating agency under NEPA regulation (40 CFR 1501.6) for the development of the SEIS/SOEIS. The SEIS/SOEIS will comply with both NEPA and Executive Order 12114 (Environmental Effects Abroad of Major Federal Actions).

Additional information concerning SURTASS LFA sonar and pertinent environmental documents are available at: http://www.surtass-lfa-eis.com.

Dated: June 24, 2014.
N.A. Hagerty-Ford,
Commander, Office of the Judge Advocate General, U.S. Navy, Federal Register Liaison Officer.

[FR Doc. 2014-15356 Filed 6-30-14; 8:45 am]

BILLING CODE P